DEPARTMENT OF DEFENSE

Office of the Secretary

[DOD-2007-OS-0068]

Privacy Act of 1974; Computer Matching Program

AGENCY: Defense Manpower Data Center, Defense Logistics Agency, DoD.

ACTION: Notice of a computer matching program.

SUMMARY: Subsection (e)(12) of the Privacy Act of 1974, as amended (5 U.S.C. 552a), requires agencies to publish advanced notices of any proposed or revised computer matching program by the matching agency for public comment. The Department of Defense (DoD), Defense Manpower Data Center (DMDC), as the matching agency under the Privacy Act, is hereby giving notice to the record subjects of a computer matching program between Department of Veterans Affairs, Office of Inspector General (VA OIG) and the Department of Defense (DoD) that their records are being matched by computer. The purpose of the computer matching program is to attempt to verify eligibility for VA Compensation and Pension (C&P) benefits by matching veteran's record of those benefits with the military service record of veterans eligible for those benefits for themselves or their beneficiaries.

DATES: This proposed action will become effective August 8, 2007 and matching may commence unless changes to the matching program are required due to public comments or by Congressional or by Office of Management and Budget concerns. Any public comment must be received before the effective date.

ADDRESSES: Any interested party may submit written comments to the Director, Defense Privacy Office, 1901 South Bell Street, Suite 920, Arlington, VA 22202-4512.

FOR FURTHER INFORMATION CONTACT: Ms. Janice Thornton at (703) 607-2943.

SUPPLEMENTARY INFORMATION: Pursuant to subsection (o) of the Privacy Act of 1974, as amended, (5 U.S.C. 552a), the VA OIG and DMDC have concluded an agreement to conduct a computer matching program between agencies. The purpose of the computer matching program is to attempt to verify eligibility for VA C&P benefits by matching veteran's record of those benefits with the military service record of veterans eligible for those benefits for themselves or their beneficiaries.

The parties to this agreement have determined that a computer matching program is the most efficient, expeditious, and effective means of obtaining and processing the information needed by VA OIG to verify the military service record of veterans eligible for VA (C&P) benefits, to identify potential fraudulent payments to fictitious veterans, and to identify payments that should be adjusted where the beneficiary is not entitled to all or part of the VA C&P benefits received. The principal alternative to using a computer matching program for identifying such individuals would be to conduct a manual comparison of all veterans or their beneficiaries receiving VA (C&P) benefits with the other files. Conducting a manual match, however, would clearly impose a considerable administrative burden, constitute a greater intrusion on the individual's privacy, and would result in additional delay in the eventual response to possible fraud and abuse. By comparing the information received through the computer matching program between VA OIG and DMDC on a recurring basis, information on successful matches (hits) can be provided to VA to initiate research on these discrepancies, thus assuring that benefit payments are proper.

A copy of the computer matching agreement between VA OIG and DoD is available upon request. Requests should be submitted to the address caption above or to the Department of Veterans Affairs, Office of Inspector General (52CO), 810 Vermont Avenue, NW., Washington, DC 20420.

Set forth below is the notice of the establishment of a computer matching program required by paragraph 6.c. of the Office of Management and Budget Guidelines on computer matching published on June 19, 1989, at 54 FR 25818.

The matching agreement, as required by 5 U.S.C. 552a(r) of the Privacy Act, and an advance copy of this notice was submitted on June 21, 2007, to the House Committee on Oversight and Government Reform, the Senate Committee on Homeland Security and Governmental Affairs, and the Administrator of the Office of Information and Regulatory Affairs, Office of Management and Budget pursuant to paragraph 4d of Appendix I to OMB Circular No. A-130, “Federal Agency Responsibilities for Maintaining Records about Individuals,” dated February 8, 1996 (February 20, 1996, 61 FR 6427).

Dated: July 2, 2007
C.R. Choate,
Alternate OSD Federal Register Liaison Officer, Department of Defense.

Notice of a Computer Matching Program Agreement Between Office of the Inspector General the Department of Veterans Affairs and the Defense Manpower Data Center, the Department of Defense for Verification of Eligibility

A. PARTICIPATING AGENCIES:

Participants in this computer matching program are the Department of Veterans Affairs, Office of Inspector General (VA OIG) and the Department of Defense (DoD), Defense Manpower Data Center (DMDC). The VA OIG is the source agency, i.e., the activity disclosing the records for the purpose of the match. The DoD is the specific recipient activity or matching agency, i.e., the agency that actually performs the computer matching.

B. PURPOSE OF THE MATCH:

Upon the execution of this agreement, VA will provide and disclose VA Compensation and Pension (C&P) and Veterans Assistance Discharge Systems (VADS) records to DMDC to identify individuals that have not separated from military service and/or confirm elements of military service relevant to the adjudication of VA benefits. VA OIG will use this information to initiate an independent verification process to determine eligibility and entitlement to VA benefits.

C. AUTHORITY FOR CONDUCTING THE MATCH:

The authority to conduct this match is 5 U.S.C. App. 3, the Inspector General Act of 1978 (IG Act). The IG Act authorizes the VA OIG to conduct audits and investigations relating to the programs and operations of VA. IG Act, § 2. In addition, § 4 of the IG Act provides that the IG will conduct activities designed to promote economy and efficiency and to prevent and detect fraud and abuse in VA's programs and operations.

D. RECORDS TO BE MATCHED:

The systems of records maintained by the respective agencies under the Privacy Act of 1974, as amended, 5 U.S.C. 552a, from which records will be disclosed for the purpose of this computer match are as follows:

1. VA will use personal data from the following Privacy Act record system for the match: Compensation, Pension, Education and Rehabilitation Records—VA, 58VA21/22, first published at 41 FR 9294, March 3, 1976, and last amended at 70 FR 34186, June 13, 2005, with other amendments as cited therein.

2. DoD will use personal data from the following Privacy Act record system for the match: Defense Manpower Data Center Data Base—S322.10 DMDC, published in the Federal Register at 72 FR 737 on January 8, 2007.

3. Agencies must publish “routine uses” pursuant to subsection (b)(3) of the Privacy Act for those systems of records from which they intend to disclose information. The systems of records described above contain appropriate routine use provisions that pertain to disclosure of information between the agencies.

E. DESCRIPTION OF COMPUTER MATCHING PROGRAM:

VA, as the source agency, will provide DMDC with two electronic files, the C&P and VADS files. The C&P file contains names of veterans, SSNs, and compensation and pension records. The VADS file contains names of veterans, SSNs, and DD214 data. Upon receipt of the electronic files, DMDC will perform a match using the SSNs in the VA C&P file, and the VADS file against the DMDC Active Duty Transaction, Reserve Transaction, and Reserve Master files. DMDC will provide VA OIG an electronic listing of VA C&P and VADS records for which there is no matching record from any of the three DMDC files, and an electronic listing of records that contain data that are inconsistent with data contained in the VA C&P or VADS files. VA OIG is responsible for verifying and determining that the data on the DMDC electronic reply file are consistent with the VA source file and for resolving any discrepancies or inconsistencies on an individual basis.

F. INCLUSIVE DATES OF THE MATCHING PROGRAM:

The effective date of the matching agreement and date when matching may actually begin shall be at the expiration of the 40-day review period for OMB and Congress, or 30 days after publication of the matching notice in the Federal Register, whichever date is later. The parties to this agreement may assume OMB and Congressional concurrence if no comments are received within 40 days of the date of the transmittal letter. The 40-day OMB and Congressional review period and the mandatory 30-day public comment period for the Federal Register publication of the notice will run concurrently. Matching will be conducted when the review/publication requirements have been satisfied and thereafter on an annual basis. By agreement between VA OIG and DMDC, the matching program will be in effect for 18 months with an option to renew for 12 additional months unless one of the parties to the agreement advises the other by written request to terminate or modify the agreement.

G. ADDRESS FOR RECEIPT OF PUBLIC COMMENTS OR INQUIRIES:

Director, Defense Privacy Office, 1901 South Bell Street, Suite 920, Arlington, VA 22202-4512. Telephone (703) 607-2943.

[FR Doc. E7-13266 Filed 7-6-07; 8:45 am]

BILLING CODE 5001-06-P